DEPARTMENT OF THE INTERIOR

Fish and Wildlife Service

Endangered and Threatened Wildlife and Plants; Draft Post-Delisting Monitoring Plan for the Western Great Lakes Distinct Population Segment of the Gray Wolf (Canis lupus)

AGENCY: Fish and Wildlife Service, Interior.

ACTION: Notice of availability of post-delisting monitoring plan; request for comments.

SUMMARY: We, the U.S. Fish and Wildlife Service (Service), announce the availability of the Draft Post-Delisting Monitoring Plan (PDM Plan) for the Western Great Lakes (WGL) Distinct Population Segment (DPS) of the Gray Wolf (Canis lupus). Under the Draft PDM Plan, we would monitor the status of the gray wolves in the WGL DPS over a 5-year period. Our monitoring would include population estimates, health data from individual wolves, and review of changes in State and tribal management and legal protections that might impact the WGL DPS's status. During the PDM period, we and the Eastern Timber Wolf Recovery Team would annually conduct a review of the monitoring data and monitoring program. We solicit review and comment on this Draft Monitoring Plan from local, tribal, State, and Federal agencies and the public.

DATES: We must receive any written comments on or before July 5, 2007.

ADDRESSES: To request a copy of the 11-page PDM Plan, write to our Midwest Regional Office: U.S. Fish and Wildlife Service, Federal Building, 1 Federal Drive, Ft. Snelling, MN 55111-4056, or call 612-713-5350. Copies also may be requested by fax at 612-713-5292 or by sending a request to graywolfPDM@fws.gov. Specify whether you want to receive a hard copy by U.S. mail or an electronic copy by e-mail or fax. The PDM Plan may also be downloaded from our Web site at http://www.fws.gov/midwest/wolf/.

Send your comments by any of the following methods. You may also drop off comments in person. See “Viewing Documents” and “Public Comments Solicited” under SUPPLEMENTARY INFORMATION for important information.

• E-mail: graywolfPDM@fws.gov. Include “Wolf PDM Plan Comments” in the subject line of the message.

• Fax: 612-713-5292. Include “Wolf PDM Plan Comments” in the subject line.

• U.S. Mail: Wolf PDM Plan Comments, U.S. Fish and Wildlife Service, Federal Building, 1 Federal Drive, Ft. Snelling, MN 55111-4056.

• In-Person Drop-off: Room 646 at the above address during regular business hours.

FOR FURTHER INFORMATION CONTACT: Direct all questions or requests for additional information to Ron Refsnider, U.S. Fish and Wildlife Service, Federal Building, 1 Federal Drive, Ft. Snelling, MN 55111-4056 or 612-713-5350. Additional information is also available on our World Wide Web site at http://www.fws.gov/midwest/wolf/. Individuals who are hearing-impaired or speech-impaired may call the Federal Relay Service at 1-800-877-8337 for TTY assistance.

SUPPLEMENTARY INFORMATION:

Background

We published our decision to remove the Western Great Lakes Distinct Population Segment of the gray wolf from the Federal List of Threatened and Endangered Wildlife and Plants on February 8, 2007 (72 FR 6052), and it became effective March 12, 2007. We determined this DPS to be recovered as a result of its primary threats being reduced or eliminated and because wolf populations in Minnesota, Wisconsin, and Michigan have greatly exceeded the numerical recovery criteria established in the Federal recovery plan. Section 4(g)(1) of the Endangered Species Act (Act) (16 U.S.C. 1531 et seq.) requires that we implement a system, in cooperation with the States, to monitor for no fewer than 5 years the status of all species that have recovered and no longer need the protection of the Act. We began developing the PDM Plan in advance of making a final decision on the delisting proposal in order to be able to implement the PDM activities in a timely manner in the event that we determined that delisting the WGL DPS is appropriate. Now that we have made the delisting determination for the WGL DPS, we are implementing the PDM as described in the Draft PDM Plan, although we recognize that the PDM Plan may be modified as a result of this review. We have used the expertise of the Recovery Team during the drafting of the PDM Plan.

The WGL DPS includes all of Minnesota; Wisconsin; Michigan; the part of North Dakota that is north and east of the Missouri River, upstream as far as Lake Sakakawea, and east of Highway 83, from Lake Sakakawea to the Canadian border; the part of South Dakota that is north and east of the Missouri River; the parts of Iowa, Illinois, and Indiana that are north of Interstate Highway 80; and the part of Ohio north of Interstate Highway 80 and west of the Maumee River (at Toledo). This includes the area currently occupied by wolf packs in Minnesota, Wisconsin, and Michigan; the nearby areas in these States, including the Northern Lower Peninsula of Michigan, in which wolf packs may become established in the foreseeable future; and a surrounding area into which Minnesota, Wisconsin, and Michigan wolves may disperse, but where we do not expect packs to persist. The area surrounding the core wolf populations includes the locations of most known dispersers from the core populations, especially the shorter- and medium-distance dispersers that are most likely to survive and potentially return to the core areas.

We propose to monitor the status of the gray wolf WGL DPS over a 5-year period following delisting. The PDM program primarily would be a continuation of State monitoring activities similar to those which have been conducted by the Departments of Natural Resources in Minnesota, Wisconsin, and Michigan over several decades. These activities would include both population monitoring and health monitoring of individual wolves, as well as Service review of changes to State and tribal wolf management and protection. Additionally, the PDM would review evidence of increased post-delisting threats, especially human-caused mortality and disease. During the PDM period, we and the Recovery Team would annually conduct a review of the monitoring data and monitoring program. We would consider various relevant factors (including but not limited to mortality rates, population changes and rates of change, disease occurrence, and range expansion or contraction) to determine if the population of gray wolves within the WGL DPS warrants expanded monitoring, additional research, and/or resumption of Federal protection. At the end of the 5-year PDM program, we would conduct a final review.

Viewing Documents

The complete file for the monitoring plan is available for inspection, by appointment, during normal business hours at our Ft. Snelling, Minnesota, Regional Office. Call 612-713-5350 to make arrangements. The comments and materials we receive on the monitoring plan during the comment period also will be available for public inspection by appointment during normal business hours at the Ft. Snelling office and also at our Ecological Services Field Offices in Bloomington, Minnesota (612-725-3548); New Frankin, Wisconsin (920-866-1717); East Lansing, Michigan (517-351-2555), and Marquette, Michigan (906-226-6571). Call those offices to make arrangements.

Public Comments Solicited

We intend for the PDM Plan to effectively monitor the status of the delisted gray wolf WGL DPS as required by section 4(g)(1) of the Act. Therefore, we hereby solicit comments, new information, or suggestions from the public, other concerned governmental agencies, the scientific community, industry, or any other interested party concerning our draft PDM Plan. We will consider all comments and information we receive during the comment period on this draft PDM during our preparation of a final PDM.

Public Availability of Comments

Before including your address, phone number, e-mail address, or other personal identifying information in your comment, you should be aware that your entire comment—including your personal identifying information—may be made publicly available at any time. While you can ask us in your comment to withhold your personal identifying information from public review, we cannot guarantee that we will be able to do so.

Author

The primary author of this document is Ron Refsnider (see ADDRESSES).

Authority

The authority for this action is the Endangered Species Act of 1973 (16 U.S.C. 1531 et seq.).

Dated: April 27, 2007.
Wendi Weber,
Assistant Regional Director, Ecological Services, Region 3, Fort Snelling, Minnesota.

[FR Doc. E7-10673 Filed 6-1-07; 8:45 am]

BILLING CODE 4310-55-P